DEPARTMENT OF HEALTH AND HUMAN SERVICES

Centers for Disease Control and Prevention

[60 Day-11-11EM]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Carol Walker, CDC Acting Reports Clearance Officer, 1600 Clifton Road, MS D-74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

National Survey of Primary Care Policies for Managing Patients with High Blood Pressure, High Cholesterol, or Diabetes—New—National Center for Chronic Disease Prevention and Health Promotion (NCCDPHP), Centers for Disease Control and Prevention (CDC).

Background and Brief Description

Cardiovascular disease is a leading cause of death for men and women in the United States, among the most costly health problems facing our nation today, and among the most preventable. Heart disease and stroke also contribute significantly to disability, with nearly three million American people reporting disability from these causes. Additionally, over 50% of diabetics have high blood pressure, high cholesterol, or both conditions. To reduce the burden of cardiovascular disease, the federal Centers for Disease Control and Prevention (CDC) works with a broad array of public- and private-sector stakeholders, including state and local health departments, community-based organizations, professional organizations, and health care practitioners.

In 2005, CDC's Division for Heart Disease and Stroke Prevention (DHDSP) began developing evaluation indicators that reflect evidence-based outcomes from policy, systems, and environmental changes for heart disease and stroke prevention. These indicators are needed to provide common measures that CDC, CDC-funded state Heart Disease and Stroke Prevention programs, and other partners can use to show progress toward achieving outcomes in heart disease and stroke prevention and control efforts. Many of the indicators that reflect outcomes of short-term policy and systems changes do not have readily available data sources. This is particularly true for outcomes related to health care systems changes.

In 2011, CDC proposes to conduct the first cycle of data collection for the National Survey of Primary Care Policies for Managing Patients with High Blood Pressure, High Cholesterol, or Diabetes (NSPCP). The web-based survey will collect information on physician practices' use of evidence-based systems, including multidisciplinary team approaches for chronic disease treatment, electronic health records (EHR) with features appropriate for treating patients with chronic disease (e.g., clinical decision supports, patient registries), and patient follow-up mechanisms. A follow-up questionnaire will be distributed two years after completion of the baseline survey. Information from both cycles of data collection will be compared to monitor changes in health systems uptake and dissemination of health systems technology. The survey will be pretested with approximately 16 respondents before dissemination.

The target population for the NSPCP is practice managers of non-federally run primary care physician practices that include at least one Family Practitioner or at least one physician specializing in internal medicine. Respondents will be drawn from a nationally representative sample of physician practices. OMB approval is requested for three years. Approximately 900 physicians will participate in the first cycle of web-based data collection, and 900 physicians will participate in the two-year follow-up survey. An average of 600 respondents per year will participate in the NSPCP.

Results will be used by CDC to improve services to partners through development of translation pieces or technical assistance aids that address gaps in the use of evidence-based interventions. Most importantly, the study will provide primary care practices with information that can be used to inform their systems for managing patients with chronic conditions and to improve the quality of care delivered.

Participation is voluntary, and all responses will be de-identified. There are no costs to respondents other than their time.

Estimated Annualized Burden Hours
Type of respondents | Form name | Number of respondents | Number of responses per respondent | Avg. burden per response (in hr) | Total burden (in hr)
Physician | Cognitive Testing Protocol | 5 | 1 | 75/60 | 6
Medical Secretary | NSPCP Screener | 1,333 | 1 | 5/60 | 111
Physician | NSPCP | 600 | 1 | 20/60 | 200
Total |  |  |  |  | 317

Dated: April 25, 2011.
Carol Walker,
Acting Reports Clearance Officer, Centers for Disease Control and Prevention

[FR Doc. 2011-10384 Filed 4-28-11; 8:45 am]

BILLING CODE 4163-18-P